GENERAL SERVICES ADMINISTRATION

Public Buildings Service; Region 10 Notice of Intent To Prepare an Environmental Impact Statement

ACTION: The General Services Administration (GSA) hereby gives notice that it intends to prepare an Environmental Impact Statement (EIS) pursuant to the requirements of the National Environmental Policy Act (NEPA) of 1969, and the President's Council on Environmental Quality Regulations (40 CFR parts 1500-1508), for the construction of a new Port of Entry facility at Peace Arch in the City of Blaine, Whatcom County, Washington.

Procedures: This project is at the planning stage and design and site acquisition funding has been approved by Congress. A public informational meeting and a NEPA scoping meeting will be held to ensure that all significant environmental issues are identified and thoroughly studied as part of the environmental analysis.

The EIS will evaluate the proposed project, including all reasonable alternatives identified through the scoping process and a no-action alternative. The scoping notification process of the date of the meeting will be accomplished through direct mailing correspondence to interested persons, agencies, and organizations, and notices in the local newspaper. There will first be an open house meeting in Blaine, Washington on November 16th, 2004 at 6:30 p.m. so that the public can review the proposed alternative plans for the new Peace Arch Port of Entry facility. Subsequently, there also will be a NEPA public scoping meeting on November 30th at 6:30 p.m. to be held in Blaine, Washington so that GSA can receive input and comments from concerned parties. Both meetings will be held at the Blaine Community Senior Center, 763 G Street in Blaine, WA. GSA will publish a public notice of the meetings in the local newspapers approximately two weeks prior to the events. Scoping will be limited to identifying significant issues to be analyzed in the environmental document and commenting on alternatives and the merit of the proposal.

Additional public meetings will be held after the release of the Draft Environmental Impact Statement and GSA will respond to all relevant comments to the draft EIS received during the 45-day public comment period in the Final Environmental Impact Statement. After a minimum 30-day period following publication of the Final Environmental Impact Statement, GSA will issue a Record of Decision that will identify the alternative selected.

SUPPLEMENTARY INFORMATION: GSA, assisted by Herrera Environmental Consultants, will prepare the Environmental Impact Statement. GSA is the lead agency in conducting the NEPA study with United States Department of Transportation—Federal Highways Administration and Washington State Department of Transportation serving as cooperating agencies. Scoping will be conducted consistent with NEPA regulations and guidelines. GSA invites interested individuals, organizations, and federal, state, and local agencies to participate in defining and identifying any significant impacts and issues to be studied in the EIS.

Project Purpose, Historical Background, and Description: The U.S. Department of Homeland Security is currently located in the existing Peace Arch Port of Entry facility. The existing facility does not currently meet the tenant agencies space or mission requirements. The existing facility cannot be adapted to accommodate the required space needs of the agency tenants.

Alternatives: The EIS will examine the short- and long-term impacts on the natural and physical environment. The impact assessment will include but not be limited to impacts such as social environment, changes in land use, aesthetics, changes in adjacent park land, changes in traffic patterns and access to the “D” street intersection, economic impacts, and consideration of City planning and zoning requirements.

The EIS will examine measures to mitigate significant adverse impacts resulting from the proposed action. Concurrent with NEPA implementation, GSA will also implement its consultation responsibilities under section 106 of the National Historical Preservation Act to identify potential impacts to existing historic or cultural resources.

The EIS will consider a no-action alternative and action alternatives. The no-action alternative would continue the occupancy in the existing Peace Arch Port of Entry facility in Blaine. The action alternatives will consist of three different configurations for construction of a new Port of Entry facility.

ADDRESSES: In addition to the public scoping process, you may send written comments on the scope of alternatives and potential impacts to the following address: Michael D. Levine, Regional Environmental Program Analyst, 10PDTB, General Services Administration, 400 15th Street SW., Auburn, WA, 98001, or fax: Michael D. Levine at 253-931-7308, or e-mail at Michael.Levine@GSA. GOV. Written comments should be received no later than 45 days after the publishing of this notice.

FOR FURTHER INFORMATION CONTACT: John Meerscheidt at Herrera Environmental Consultants, 2200 Sixth Ave., Suite 601, Seattle, Washington 98121 or call 206-441-9080; or Michael D. Levine, GSA (253) 931-7263.

MAILING LIST: If you wish to be placed on the project mailing list to receive further information as the EIS process develops, contact John Meerscheidt at the address noted above.

Dated: October 15, 2004.
William L. Dubray,
Executive Director (10A).

[FR Doc. 04-24330 Filed 10-29-04; 8:45 am]

BILLING CODE 6820-23-M